DEPARTMENT OF HEALTH AND HUMAN SERVICES

Food and Drug Administration

[Docket No. FDA-2010-N-0274]

Oversight of Laboratory Developed Tests; Public Meeting; Change of Meeting Location

AGENCY: Food and Drug Administration, HHS.

ACTION: Notice.

SUMMARY: The Food and Drug Administration (FDA) is announcing a change in location for the upcoming public meeting entitled “Oversight of Laboratory Developed Tests.” A new address is given for those attending the public meeting.

DATES: The public meeting will be held on July 19 and 20, 2010, from 8 a.m. to 5 p.m. each day.

ADDRESES: The public meeting will be held at The Marriott Inn & Conference Center, University of Maryland University College, 3501 University Blvd. E, Hyattsville, MD 20783.

FOR FURTHER INFORMATION CONTACT: Katherine Serrano, Center for Devices and Radiological Health, Food and Drug Administration 10903 New Hampshire Ave., Bldg. 66., rm 5613, Silver Spring, MD 20993-0002, 301-796-6652, e-mail: Katherine.serrano@fda.hhs.gov.

SUPPLEMENTARY INFORMATION:

I. Background

In the Federal Register of June 17, 2010 (75 FR 34463), FDA published a notice announcing a public meeting that is intended to create a forum for interested stakeholders to discuss the agency's oversight of laboratory developed tests. FDA announced in the notice that it is seeking input and requesting comments on this topic. The June 17, 2010, notice invited individuals interested in presenting to register by July 12, 2010. Registration to present at the public meeting is closed. All others are welcome to attend on a first-come, first-served basis.

Because of greater than anticipated response for attending the public meeting, FDA is announcing in this notice a new location for the public meeting.

II. New Location for the Public Workshop

The new location will be The Marriott Inn & Conference Center, University of Maryland University College (see ADDRESSES). Directions and information on parking, accommodations, and transportation options can be found at: http://www.marriott.com/hotels/travel/wasum-the-marriott-inn-and-conference-center-university-of-maryland-university-college/.

Dated: July 7, 2010.
Nancy Stade,
Acting Associate Director for Regulations and Policy, Center for Devices and Radiological Health.

[FR Doc. 2010-16974 Filed 7-12-10; 8:45 am]

BILLING CODE 4160-01-S